DEPARTMENT OF DEFENSE

GENERAL SERVICES ADMINISTRATION

NATIONAL AERONAUTICS AND SPACE ADMINISTRATION

[OMB Control No. 9000-0161; Docket No. 2019-0003; Sequence No. 34]

Submission for OMB Review; Reporting Purchases From Sources Outside the United States

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding reporting purchases from sources outside the United States.

DATES: Submit comments on or before March 30, 2020.

ADDRESSES: Submit comments regarding this burden estimate or any other aspect of this collection of information, including suggestions for reducing this burden to: Office of Information and Regulatory Affairs of OMB, Attention: Desk Officer for GSA, Room 10236, NEOB, Washington, DC 20503 or at Oira_submission@omb.eop.gov. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0161, Reporting Purchases from Sources Outside the United States.

Instructions: All items submitted must cite Information Collection 9000-0161, Reporting Purchases from Sources Outside the United States. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Zenaida Delgado, Procurement Analyst, at telephone 202-969-7207, or zenaida.delgado@gsa.gov.

SUPPLEMENTARY INFORMATION:

A. OMB Control Number, Title, and any Associated Form(s): 9000-0161, Reporting Purchases from Sources Outside the United States.

B. Need and Uses

This clearance covers the information that offerors must submit to comply with the Federal Acquisition Regulation (FAR) provision 52.225-18, Place of Manufacture. This provision requires offerors of manufactured end products to provide information as to whether the offered end products are predominantly manufactured in the United States or outside the United States.

Contracting officers use the information as the basis for entry into the Federal Procurement Data System for further data on the rationale for purchasing foreign manufactured items. The data is necessary for analysis of the application of the Buy American statute and the trade agreements.

C. Annual Burden

Respondents: 30,740.

Total Annual Responses: 2,908,096.

Total Burden Hours: 29,081.

D. Public Comment

A. A 60-day notice was published in the Federal Register at 84 FR 68455, on December 16, 2019. One comment was received; however, it did not change the estimate of the burden.

Comment: The commenter expressed support for the collection of data and stated that it should be maintained and enhanced given its essential role in informing policy decisions surrounding procurement and trade policy.

Response: This comment supports the collection of information as necessary for the proper performance of the functions of Federal Government acquisitions. It did not express an opinion on whether the stated number of burden hours is accurate for what they believe to be the actual number of hours an offeror expends to comply with the provision.

Obtaining Copies: Requesters may obtain a copy of the information collection documents from the General Services Administration, Regulatory Secretariat Division (MVCB), 1800 F Street NW, Washington, DC 20405, telephone 202-501-4755. Please cite OMB Control No. 9000-0161, Reporting Purchases from Sources Outside the United States, in all correspondence.

Dated: February 25, 2020.
Janet Fry,
Director, Federal Acquisition Policy Division, Office of Governmentwide Acquisition Policy, Office of Acquisition Policy, Office of Governmentwide Policy.

[FR Doc. 2020-04110 Filed 2-27-20; 8:45 am]

BILLING CODE 6820-EP-P